DEPARTMENT OF ENERGY

Federal Energy Regulatory Commission

Notice of Application for Amendment of Exemption and Soliciting Comments, Motions To Intervene, and Protests

May 25, 2006.

Take notice that the following hydroelectric application has been filed with the Commission and is available for public inspection:

a. Type of Application: Amendment to exemption; Change in mode of operation from store-and-release to run-of-river.

b. Project No: 7253-008.

c. Date Filed: January 24, 2006.

d. Applicant: Swift River Company.

e. Name of Project: Sebec Hydro.

f. Location: The Sebec Hydro Project (FERC No. 7253) is located on the Sebec River near the town of Sebec in Piscataquis County, Maine.

g. Filed Pursuant to: Federal Power Act, 18 CFR 4.104.

h. Applicant Contact: Mr. Peter Clark, President, Swift River Company, P.O. Box 149A, Hamilton, MA 01936—0149, Phone: (508) 468-3999, Fax: (978) 468-1210.

i. FERC Contact: Any questions regarding this notice should be addressed to Brandi Sangunett at (202) 502-8393 or e-mail at: brandi.sangunett@ferc.gov.

j. Description of Request: Sebec hydro requests to amend its exemption by changing the project's mode of operation from store-and-release to run-of-river. The exemptee proposes to install a lake level control system at the project to maintain a minimum flow of 40 cubic feet per second (cfs) and to maintain the reservoir elevation within 6 inches of full elevation (332.8 feet and 322.3 feet). The exemptee would continue to drawn down lake levels in winter to 317.8 feet on or before March 31, and release a minimum flow of 40 cfs.

k. Deadline for Filing Comments or Motions: June 26, 2006.

l. Locations of the Application: A copy of the application is available for inspection and reproduction at the Commission's Public Reference Room, located at 888 First Street, NE., Room 2A, Washington, DC 20426 or may be viewed on the Commission's Web site at http://www.ferc.gov using the “eLibrary” link. Enter the docket number excluding the last three digits in the docket number field to access the document. For assistance, call toll-free 1-866-208-3676 or e-mail FERCOnlineSupport@ferc.gov. For TTY, call (202) 502-8659. A copy is also available for inspection and reproduction at the address in item “h” above.

m. Anyone may submit responses in accordance with the requirements of Rules of Practice and Procedure, 18 CFR 385.210, .211, .214. In determining the appropriate action to take, the Commission will consider all protests or other comments filed, but only those who file a motion to intervene in accordance with the Commission's Rules may become a party to the proceeding. Any responses must be received on or before the specified comment date for the particular application.

n. Filing and Service of Responsive Documents: Any filings must bear in all capital letters the title “COMMENTS”, “RECOMMENDATIONS FOR TERMS AND CONDITIONS”, “PROTEST”, or “MOTION TO INTERVENE”, as applicable, and the project number (P-7253-008) to which the filing refers. All documents (original and eight copies) should be filed with: The Secretary, Federal Energy Regulatory Commission, 888 First Street, NE., Washington, DC 20426. A copy of any motion to intervene must also be served upon each representative of the Applicant specified in the particular application.

o. Comments, protests, and interventions may be filed electronically via the Internet in lieu of paper. See 18 CFR 385.2001(a)(1)(iii) and the instructions on the Commission's Web site under the “e-Filing” link. The Commission strongly encourages e-filings. Federal, State, and local agencies are invited to file comments on the described applications. A copy of the applications may be obtained by agencies directly from the Applicant. If an agency does not file comments within the time specified for filing comments, that agency will be presumed to have no comments. One copy of an agency's comments must also be sent to the Applicant's representatives.

Magalie R. Salas,
Secretary.

[FR Doc. E6-8522 Filed 6-1-06; 8:45 am]

BILLING CODE 6717-01-P